DEPARTMENT OF HEALTH AND HUMAN SERVICES

Administration for Children and Families

[OMB #: 0970-0467]

Submission for Office of Management and Budget Review; Trafficking Victim Assistance Program Data

AGENCY: Office on Trafficking in Persons, Administration for Children and Families, Department of Health and Human Services.

ACTION: Request for public comments.

SUMMARY: The Office on Trafficking in Persons (OTIP), Administration for Children and Families (ACF), U.S. Department of Health and Human Services (HHS), is requesting an extension of approval with revisions of an Office of Management and Budget (OMB) approved information collection: Trafficking Victim Assistance Program (TVAP) Data (OMB #0970-0467; expiration date February 28, 2026).

DATES: Comments due December 24, 2025.

ADDRESSES: The public may view and comment on this information collection request at: https://www.reginfo.gov/public/do/PRAViewICR?ref_nbr=202511-0970-005. You can also obtain copies of the proposed collection of information by emailing infocollection@acf.hhs.gov. Identify all emailed requests by the title of the information collection. You can also obtain copies of the proposed collection of information by emailing infocollection@acf.hhs.gov. Identify all emailed requests by the title of the information collection.

SUPPLEMENTARY INFORMATION:

Description: The Trafficking Victims Protection Act of 2000 (TVPA), as amended, authorizes the Secretary of HHS to expand benefits and services to victims of severe forms of trafficking in persons in the U.S. Through TVAP, grant recipients provide time-limited comprehensive case management services to confirmed and potential victims of a severe form of human trafficking, as defined by TVPA, as amended, who are seeking or have received HHS certification. Case management services must be provided to qualified persons directly by full-time case managers that are staffed by the prime recipient and may also be provided through a network of per capita service providers.

OTIP proposes to continue to collect information to measure grant project performance, provide technical assistance to grant recipients, assess program outcomes, inform program evaluation, respond to congressional inquiries and mandated reports, and inform policy and program development that is responsive to the needs of victims.

The information collection captures information on participant demographics (e.g., age, sex, type of trafficking experienced, service location) and services provided, along with aggregate information on outreach activities conducted, subrecipients enrolled, and dollars spent per service. Minor nonsubstantive updates have been made to performance indicators under this collection to simplify response options or to bring the collection into alignment with OTIP's grant recipient reporting database, the Anti-Trafficking Information Management System (ATIMS).

Respondents: TVAP grant recipients and clients of those programs, specifically: TVAP and the Aspire: Child Trafficking Victim Assistance Demonstration Program funding recipients.

Annual Burden Estimates

Based on review of performance data received pertaining to the number of clients served through TVAP programs and funding levels, the total number of respondents for each form has been lowered. The time to complete each form remains the same.

Instrument | Total number of respondents | Total number of responses per respondent | Average burden hours per response | Total burden hours | Annual burden hours
Client Characteristics and Program Entry | 5300 | 1 | 0.75 | 3975 | 1325
Client Case Closure | 5300 | 1 | 0.167 | 885 | 295
Barriers to Service Delivery and Monitoring | 120 | 4 | 0.167 | 80 | 27
Client Service Use and Delivery | 5300 | 1 | 0.25 | 1325 | 442
Client Outreach | 120 | 4 | 0.3 | 144 | 48
Subrecipient Enrollment | 60 | 3 | 0.167 | 30 | 10
Client Service Costs | 60 | 1 | 0.5 | 30 | 10

Estimated Total Annual Burden Hours: 2,157.

Authority: 22 U.S.C. 7105

Mary C. Jones,
ACF/OPRE Certifying Officer.

[FR Doc. 2025-20770 Filed 11-21-25; 8:45 am]

BILLING CODE 4184-73-P